ENVIRONMENTAL PROTECTION AGENCY

40 CFR Part 52

EPA-R09-OAR-2011-0356; FRL-9314-8]

Revisions to the California State Implementation Plan

AGENCY: Environmental Protection Agency (EPA).

ACTION: Proposed rule.

SUMMARY: EPA is proposing to approve revisions to the San Joaquin Valley Unified Air Pollution Control District (SJVUAPCD) and Imperial County Air Pollution Control District (ICAPCD) portions of the California State Implementation Plan (SIP). These revisions concern volatile organic compound (VOC) emissions from Motor Vehicle Assembly Coatings, Surface Coatings of Metal Parts and Products, Plastic Parts and Products and Pleasure Crafts, Aerospace Coating Operations and Automotive Refinishing Operations. We are proposing to approve local rules to regulate these emission sources under the Clean Air Act as amended in 1990 (CAA or the Act). We are taking comments on this proposal and plan to follow with a final action.

DATES: Any comments must arrive by July 5, 2011.

ADDRESSES: Submit comments, identified by docket number EPA-R09-OAR-2011-0356, by one of the following methods:

1. Federal eRulemaking Portal: http://www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The docket for this action is available electronically at http://www.regulations.gov and in hard copy at EPA Region IX, 75 Hawthorne Street, San Francisco, California. While all documents in the docket are listed at http://www.regulations.gov, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Adrianne Borgia, EPA Region IX, (415) 972-3576, borgia.adrianne@epa.gov.

SUPPLEMENTARY INFORMATION: Throughout this document, we, us and our refer to EPA.

Table of Contents

I. The State's Submittal

A. What rules did the State submit?

B. Are there other versions of these rules?

C. What is the purpose of the submitted rules?

II. EPA's Evaluation and Action

A. How is EPA evaluating the rules?

B. Do the rules meet the evaluation criteria?

C. EPA Recommendations to Further Improve the Rules

D. Public Comment and Final Action

III. Statutory and Executive Order Reviews

I. The State's Submittal

A. What rules did the State submit?

Table 1 lists the rules addressed by this proposal with the dates that they were adopted by local air agencies and submitted by the California Air Resources Board (CARB).

Table 1—Submitted Rules
Local agency | Rule No. | Rule title | Amended | Submitted
SJVUAPCD | 4602 | Motor Vehicle Assembly Coatings | 9/17/09 | 5/17/10
SJVUAPCD | 4603 | Surface Coating of Metal Parts and Products, Plastic Parts and Products and Pleasure Crafts | 9/17/10 | 5/17/10
ICAPCD | 425 | Aerospace Coating Operations | 2/23/10 | 7/20/10
ICAPCD | 427 | Automotive Refinishing Operations | 2/23/10 | 7/20/10

On 7/8/2010 for the SJUAPCD rules and 8/25/2010 for the ICAPCD rules, these rule submittals were found to meet the completeness criteria in 40 CFR part 51, Appendix V, which must be met before formal EPA review.

B. Are there other versions of these rules?

We approved a version of SJVUAPCD Rule 4602 into the SIP on 6/26/2002. We approved a version of SJVUAPCD Rule 4603 into the SIP on 1/19/2010. We approved a version of ICAPCD Rule 425 into the SIP on 5/19/2005. We approved a version of ICAPCD Rule 427 into the SIP on 10/3/2001.

C. What is the purpose of the submitted rules?

VOCs help produce ground-level ozone and smog, which harm human health and the environment. Section 110(a) of the CAA requires states to submit regulations that control VOC emissions. In general, these rules control the VOC emissions by limiting the VOC of commercial coatings and solvents.

Originally SJVUAPCD Rule 4602 was Motor Vehicle and Mobile Equipment Coating Operations but was retired on January 1, 2009 when Rule 4612, Motor Vehicle and Mobile Equipment Coating Operations—Phase II became effective. SJVUAPCD Rule 4602 is revised to implement RACT requirements as recommended in the CTG for Automobile and the CTG for Light-Duty Truck Assembly Coatings, EPA-453/R-08-006 and Miscellaneous Metal and Plastic Parts Coatings, EPA-453/R-08-003. The rule was also revised to reduce solvent VOC emissions to 25 grams/liter.

SJVUAPCD Rule 4603 is revised to implement RACT requirements as recommended in the CTG for Miscellaneous Metal and Plastic Parts Coatings, EPA-453/R-08-003, for Large Appliance Coatings, EPA-453/R-07-004, and for Metal Furniture Coatings, EPA-453/R-07-005. Rule 4603 now includes plastic parts and products and also includes pleasure crafts. Rule 4603 establishes work practices for large appliance parts and products and metal furniture coating operations. This rule also establishes a 25 gram/liter VOC limit for all cleaning solvents.

ICAPCD Rule 425 is revised to implement the new recordkeeping requirements consistent with other air districts and to comply with the National Emissions Standards for Aerospace Manufacturing and Rework Facilities: Summary of Requirements for Implementing NESHAP, EPA-456/R-97-006.

ICAPCD Rule 427 is revised to implement the California Air Resources Board (CARB) Automotive Coatings Suggested Control Methods (SCM), to add prohibitions regarding sale and ownership of specific coatings and to add requirements for manufacturers and providers of automotive coatings and related materials to provide all necessary information to their clients.

EPA's technical support documents (TSDs) have more information about these rules.

II. EPA's Evaluation and Action

A. How is EPA evaluating the rules?

Generally, SIP rules must be enforceable (see section 110(a) of the Act), must require Reasonably Available Control Technology (RACT) for each category of sources covered by a Control Techniques Guidelines (CTG) document as well as each major source in nonattainment areas (see section 182(a)(2)), and must not relax existing requirements (see sections 110(l) and 193). The SJVUAPCD regulates an ozone nonattainment area (see 40 CFR part 81), so Rules 4602 and 4603 must fulfill RACT. The ICAPCD regulates an ozone nonattainment area (see 40 CFR part 81), so Rules 425 and 427 must fulfill RACT.

Guidance and policy documents that we used to help evaluate enforceability and RACT requirements consistently include the following:

1. Portions of the proposed post-1987 ozone and carbon monoxide policy that concern RACT, 52 FR 45044, November 24, 1987.

2. Issues Relating to “VOC Regulation Cutpoints, Deficiencies, and Deviations,” EPA, May 25, 1988 (the Bluebook).

3. “A Guidance Document for Correcting Common VOC & Other Rule Deficiencies,” EPA Region 9, August 21, 2001 (the Little Bluebook).

4. CTG for Automobile and the CTG for Light-Duty Truck Assembly Coatings, EPA-453/R-08-006, Miscellaneous Metal and Plastic Parts Coatings, EPA-453/R-08-003,

5. CTG for Fiberglass Boat Manufacturing Materials, EPA-453/R-08-004,

6. National Emissions Standards for Aerospace Manufacturing and Rework Facilities: Summary of Requirements for Implementing NESHAP, EPA-456/R-97-006 and CARB Automotive Coatings SCM.

B. Do the rules meet the evaluation criteria?

We believe these rules are consistent with the relevant policy and guidance regarding enforceability, RACT, and SIP relaxations. The TSDs have more information on our evaluation.

C. EPA Recommendations to Further Improve the Rules

The TSDs describe additional rule revisions that do not affect EPA's current action but are recommended for the next time the local agency modifies the rules.

D. Public Comment and Final Action

Because EPA believes the submitted rules fulfill all relevant requirements, we are proposing to fully approve them as described in section 110(k)(3) of the Act. We will accept comments from the public on this proposal for the next 30 days. Unless we receive convincing new information during the comment period, we intend to publish a final approval action that will incorporate these rules into the federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental effects with practical, appropriate, and legally permissible methods under Executive Order 12898 (59 FR 7629, February 16, 1994).

In addition, these rules do not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Intergovernmental relations, Ozone, Reporting and recordkeeping requirements, Volatile organic compound.

Authority: 42 U.S.C. 7401 et seq.

Dated: May 19, 2011.
Jared Blumenfeld,
Regional Administrator, Region IX.

[FR Doc. 2011-13830 Filed 6-2-11; 8:45 am]

BILLING CODE 6560-50-P